DEPARTMENT OF TRANSPORTATION

Federal Aviation Administration

Airborne Area Navigation Equipment Using Loran-C Inputs

AGENCY: Federal Aviation Administration (FAA), DOT

ACTION: Notice of cancellation of: (1) Loran-C navigation system Technical Standard Orders (TSO); and (2) the revocation of Loran-C navigation system TSO Authorizations (TSOA), and request for public comment.

SUMMARY: This notice announces the cancellation of Technical Standard Order (TSO) C-60, Airborne Area Navigation Equipment Using Loran-C inputs and all subsequent revisions. The effect of the cancelled TSOs will result in the revocation of all TSOAs issued for the production of those navigational systems. These actions are necessary because the Loran-C Navigation System ceased operation on February 8, 2010.

DATES: Comments must be received on or before August 23, 2010

FOR FURTHER INFORMATION CONTACT: Mr. Kevin Bridges, AIR-130, Federal Aviation Administration, 470 L'Enfant Plaza, Suite 4102, Washington, DC 20024. Telephone (202) 385-4627, fax (202) 385-4651, e-mail to: kevin.bridges@faa.gov.

SUPPLEMENTARY INFORMATION:

Comments Invited

You are invited to comment on the cancellation of the TSO and the revocation of the associated TSOAs by submitting written data, views, or arguments to the above address. Comments received may be examined, both before and after the closing date, at the above address, weekdays except federal holidays, between 8:30 a.m. and 4:30 p.m. The Director, Aircraft Certification Service, will consider all comments received on or before the closing date.

Background

The Loran-C navigation system ceased transmitting usable signals on February 8, 2010. Because the Loran-C system ceased operation, the FAA intends to cancel all Loran-C Technical Standard Orders and revoke all associated Technical Standard Order Authorizations (TSOA).

The FAA database contains one (1) specific TSO requiring the Loran-C system as a means of navigation, and numerous TSOAs issued for the design and manufacture of Loran-C avionics equipment. This announcement serves as notice to all Loran-C TSOA holders that the FAA intends to cancel all TSOs (including active historical TSOs) and revoke all TSOAs for Loran-C avionics equipment.

Issued in Washington, DC, on July 13, 2010.
Susan J.M. Cabler,
Assistant Manager, Aircraft Engineering Division, Aircraft Certification Service.

[FR Doc. 2010-17940 Filed 7-21-10; 8:45 am]

BILLING CODE 4910-13-P